DEPARTMENT OF VETERANS AFFAIRS

[OMB Control No. 2900-0515]

Agency Information Collection Activity: Maintenance of Records Under 38 CFR 36.4333

AGENCY: Veterans Benefits Administration, Department of Veterans Affairs.

ACTION: Notice; correction.

SUMMARY: The Department of Veterans Affairs (VA) requested publication of a 30-day notice in the Federal Register on Monday, August 15, 2022 which needs to be recalled. The 30-day Public Comment notice was a duplicate.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0515” in any correspondence.

Correction

Recall 30-day notice for 2900-0515, Maintenance of Records Under 38 CFR 36.4333 requested on August 15, 2022.

Dated: August 16, 2022.
By direction of the Secretary.
Maribel Aponte,
VA PRA Clearance Officer, Office of Enterprise and Integration/Data Governance Analytics, Department of Veterans Affairs.

[FR Doc. 2022-17865 Filed 8-18-22; 8:45 am]

BILLING CODE 8320-01-P